DEPARTMENT OF COMMERCE

National Telecommunications and Information Administration

Online Safety and Technology Working Group Meeting

AGENCY: National Telecommunications and Information Administration, U.S. Department of Commerce.

ACTION: Notice of Public Meeting.

SUMMARY: This notice announces a public meeting of the Online Safety and Technology Working Group (OSTWG).

DATES: The meeting will be held on February 4, 2010, from 8:40 a.m. to 5:00 p.m., Eastern Standard Time.

ADDRESSES: The meeting will be held at the United States Department of Commerce, 1401 Constitution Avenue, NW, Room 4830, Washington, DC 20230.

FOR FURTHER INFORMATION CONTACT: Joe Gattuso at (202) 482-0977 or jgattuso@ntia.doc.gov; and/or visit NTIA's web site at www.ntia.doc.gov.

SUPPLEMENTARY INFORMATION: Background: NTIA established the OSTWG pursuant to Section 214 of the Protecting Children in the 21st Century Act (Act). The OSTWG is composed of representatives of relevant sectors of the business community, public interest groups, and other appropriate groups and Federal agencies. The members were selected for their expertise and experience in online safety issues, as well as their ability to represent the views of the various industry stakeholders.

According to the Act, the OSTWG is tasked with evaluating industry efforts to promote a safe online environment for children. The Act requires the OSTWG to report its findings and recommendations to the Assistant Secretary for Communications and Information and to Congress within one (1) year after its first meeting.

Matters to Be Considered: The OSTWG will hear presentations and have discussions on online safety and technology, with an emphasis on issues relevant to the work of the subcommittees on data retention and child pornography reporting.

Time and Date: The meeting will be held on February 4, 2010, from 8:40 a.m. to 5:00 p.m., Eastern Standard Time. The times and the agenda topics are subject to change. The meeting may be webcast. Please refer to NTIA's web site, http://www.ntia.doc.gov, for the most up-to-date meeting agenda and webcast information.

Place: The meeting will be held at the United States Department of Commerce, 1401 Constitution Avenue, NW, Room 4830, Washington, DC 20230. The meeting will be open to the public and press on a first-come, first-served basis. Space is limited. Attendees should bring a photo ID and arrive early to clear security. The public meeting is physically accessible to people with disabilities. Individuals requiring accommodations, such as sign language interpretation or other ancillary aids, are asked to notify Mr. Gattuso at (202) 482-0977 or jgattuso@ntia.doc.gov, at least five (5) business days before the meeting.

Dated: January 6, 2010.
Kathy D. Smith,
Chief Counsel, National Telecommunications and Information Administration.

[FR Doc. 2010-232 Filed 1-8-10; 8:45 am]

BILLING CODE 3510-60-S